FEDERAL ACCOUNTING STANDARDS ADVISORY BOARD

Meeting

AGENCY: Federal Accounting Standards Advisory Board.

ACTION: Notice of meeting for August 2001.

Board Action: Pursuant to the Federal Advisory Committee Act (Pub. L. 92-463), as amended, and the FASAB Rules Of Procedure, as amended in October, 1999, a corrected notice is hereby given that the Federal Accounting Standards Advisory Board (FASAB) will meet on Thursday, August 23 and Friday, and Friday, August 24, 2001, in room 6N30 of the GAO Building.

The purpose of the meeting is to discuss issues related to:

—National Defense PP&E,

—Consolidated Financial Reporting, and

—Stewardship Reporting,

—Technical Agenda.

A more detailed agenda can be obtained from the FASAB website (www.financenet.gov/fasab.htm one week prior to each meeting.

Following the August meeting, the schedule for the next two meetings of the Board is as follows:

—Thursday and Friday, October 25 and 26, 2001;

—Thursday and Friday, December 13 and 14, 2001.

The purpose of these meetings will be to discuss issues related to:

—Stewardship Reporting;

—National Defense Property, Plant & Equipment;

—Accounting and Auditing Policy Committee issues; and

—Any other topics as needed.

A Steering Committee meeting of the Board's Principal Board members will be held in conjunction with each of the Board meetings. A more detailed agenda for each Board meeting can be seen on the FASAB website www.financenet.gov/fasab.htm one week prior to each meeting. Meetings will be held in room 6N30 of the GAO Building.

Any interested person may attend the meetings as an observer. Board discussion and reviews are open to the public. GAO Building security requires advance notice of your attendance. For the August meeting, please notify FASAB by August 22 of your planned attendance by calling 202-512-7350, and for the subsequent meetings one day prior to the respective meeting.

FOR FURTHER INFORMATION CONTACT: Wendy Comes, Executive Director, 441 G St., NW., Mailstop 6K17V, Washington, DC 20548, or call (202) 512-7350.

Authority: Federal Advisory Committee Act. Pub. L. No. 92-463)

Dated: November 13, 2001.
Wendy M. Comes,
Executive Director.

[FR Doc. 01-19181 Filed 7-31-01; 8:45 am]

BILLING CODE 1610-01-M